SMALL BUSINESS ADMINISTRATION

Advisory Committee on Veterans Business Affairs Meeting Notice

AGENCY: U.S. Small Business Administration

ACTION: Notice of open Federal Advisory Committee Meeting.

SUMMARY: The SBA is issuing this notice to announce the location, date, time, and agenda for the next meeting of the Advisory Committee on Veterans Business Affairs. The meeting is open to the public.

DATES: Wednesday, September 14, 2016, from 9:00 a.m. to 4:00 p.m.

ADDRESSES: Eisenhower Conference Room B on the concourse level, U.S. Small Business Administration, 409 3rd Street SW., Washington, DC 20416.

SUPPLEMENTARY INFORMATION: Pursuant to section 10(a)(2) of the Federal Advisory Committee Act (5 U.S.C., Appendix 2), SBA announces the meeting of the Advisory Committee on Veterans Business Affairs (ACVBA). The ACVBA serves as an independent source of advice and policy recommendation to the Administrator of the U.S. Small Business Administration. The purpose of this meeting is to discuss the formation and growth of small business concerns owned and controlled by veterans and service disabled veterans, to focus on strategic planning, and provide updates on past and current events.

Additional Information: Advance notice of attendance is requested. Notice of attendance, comments, and special accommodation requests should be emailed to the Office of Veterans Business Development at vetstaskforce@sba.gov no later than September 9, 2016. During the meeting, public comments will be limited to five minutes to accommodate as many participants as possible. For more information on veteran owned small business programs, please visit www.sba.gov/vets.

Dated: August 17, 2016.
Miguel J. L'Heureux,
SBA Committee Management Officer.

[FR Doc. 2016-20464 Filed 8-25-16; 8:45 am]

BILLING CODE P